TENNESSEE VALLEY AUTHORITY

18 CFR Part 1301

Tennessee Valley Authority Procedures

AGENCY: Tennessee Valley Authority.

ACTION: Final rule.

SUMMARY: The Tennessee Valley Authority is amending its regulations which contain TVA's procedures for the Privacy Act. These amendments reflect changes in position titles and addresses; conform references to Privacy Act systems of records to the most current publication of TVA's Privacy Act Systems Notices in the Federal Register; and make other editorial changes.

DATES: Effective: December 9, 2016.

FOR FURTHER INFORMATION CONTACT: Christopher A. Marsalis, Senior Privacy Program Manager, Tennessee Valley Authority, 400 W. Summit Hill Dr. (WT 5D), Knoxville, Tennessee 37902-1401; telephone (865) 632-2467 or by email at camarsalis@tva.gov.

SUPPLEMENTARY INFORMATION: Section 1301.24(a) originally contained specific exemptions for the TVA system “Employee Alleged Misconduct Investigatory File—TVA.” Notice that system of records was retired appeared in 80 Federal Register 24012 (April 29, 2015). TVA is revising § 1301.24(a) to replace the language for “Employee Alleged Misconduct Investigatory File—TVA” with the specific exemptions for the TVA system ” Nuclear Access Authorization and Fitness for Duty Records—TVA” which were first published at 76 FR 1888 (January 11, 2011).

This rule was not published in proposed form since it relates to agency procedure and practice. TVA considers this rule to be a procedural rule which is exempt from notice and comment under 5 U.S.C. 533(b)(3)(A). This rule is not a significant rule for purposes of Executive Order 12866 and has not been reviewed by the Office of Management and Budget. As required by the Regulatory Flexibility Act, TVA certifies that these regulatory amendments will not have a significant impact on small business entities. Since this rule is nonsubstantive, it is being made effective December 9, 2016.

List of Subjects in 18 CFR Part 1301

Freedom of Information, Government in the Sunshine, Privacy.

For the reasons stated in the preamble, TVA amends 18 CFR part 1301 as follows:

PART 1301—PROCEDURES

1. The authority citation for part 1301 continues to read as follows:

Authority: 16 U.S.C. 831-831dd, 5 U.S.C. 552.

Subpart B—Privacy Act

2. In § 1301.12, revise paragraphs (d) and (f) to read as follows:

§ 1301.12 Definitions.

* * * * *

(d) The term TVA system notice means a notice of a TVA system published in the Federal Register pursuant to the Act. TVA has published TVA system notices about the following TVA systems:

Apprentice Training Records—TVA.

Personnel Files—TVA.

Discrimination Complaint Files—TVA.

Work Injury Illness System—TVA.

Employee Accounts Receivable—TVA.

Health Records—TVA.

Payroll Records—TVA.

Travel History Records—TVA.

Employment Applicant Files—TVA.

Grievance Records—TVA.

Employee Supplementary Vacancy Announcement Records—TVA.

Consultant and Contractor Records—TVA.

Nuclear Quality Assurance Personnel Records—TVA.

Questionnaire—Land Use Surveys in Vicinity of Proposed or Licensed Nuclear Power Plant—TVA.

Radiation Dosimetry Personnel Monitoring Records—TVA.

Retirement System Records—TVA.

Energy Program Participant Records—TVA.

OIG Investigative Records—TVA.

Call Detail Records—TVA.

Project/Tract Files—TVA.

Section 26a Permit Application Records—TVA.

U.S. TVA Police Records—TVA.

Wholesale, Retail, and Emergency Data Files—TVA.

Nuclear Access Authorization and Fitness for Duty Records—TVA.

* * * * *

(f) The term reviewing official means TVA's Senior Vice President, Chief Human Resources Officer (or incumbent of a successor position), or another TVA official designated by the Senior Vice President in writing to decide an appeal pursuant to § 1301.19;

* * * * *

3. In § 1301.24, revise paragraph (a) to read as follows:

§ 1301.24 Specific exemptions.

(a) The TVA system Nuclear Access Authorization and Fitness for Duty Records is exempt from subsections (d); (e)(4)(H); and (f)(2), (3), and (4) of 5 U.S.C. 522a (section 3 of the Privacy Act of 1974) to the extent that disclosure of material would reveal the identity of a source who furnished information to the Government under an express promise that the identity of the source would be held in confidence, and to the extent that disclosure of testing or examination material would compromise the objectivity or fairness of the testing or examination process. This exemption is pursuant to 5 U.S.C. 552a (k)(5) and (6).

* * * * *

Philip D. Propes,
Director, Enterprise Information Security and Policy.

[FR Doc. 2016-29457 Filed 12-8-16; 8:45 am]

BILLING CODE 8120-08-P